DEPARTMENT OF TRANSPORTATION

Federal Railroad Administration

Petition for Waiver of Compliance

In accordance with Part 211 of Title 49 Code of Federal Regulations (CFR), notice is hereby given that the Federal Railroad Administration (FRA) received a request for a waiver of compliance with certain requirements of Federal railroad safety regulations. The individual petition is described below, including the party seeking relief, the regulatory provisions involved, the nature of the relief being requested, and the petitioner's arguments in favor of relief.

Burlington Northern Santa Fe Corporation

Docket Number FRA-2006-24812

Burlington Northern Santa Fe Corporation (BNSF) seeks a permanent waiver of compliance with the certain provisions of 49 CFR Part 232, Brake System Safety Standards for Freight and Other Non-Passenger Trains and Equipment. Specifically, they are requesting a waiver from the mileage and inspection requirements for 49 CFR 232.213, Extended Haul Trains.

BNSF would like to perform the 1,500-mile extended haul inspection for 13 designated trains at points that slightly exceed the 1,500-mile point for inbound and outbound inspections. On July 14, 2006, the FRA granted BNSF a 6-month temporary waiver from the requirements for which the railroad is presently seeking permanent relief. BNSF believes that the relief is critical given the increased demand for coal by the utility industry, and that the increase will not compromise railroad safety. BNSF believes that granting this waiver petition will significantly improve their ability to transport coal without any degradation to the safe operation of the following designated trains: E-PAMATM, E-PAMBAM, E-PAMBTM, E-PAMNAM, E-PAMSBM, E-PAMEBM, E-MHSATM, E-MHSBKM, E-MHSCAM, E-MHSEBM, E-MHSJRM, E-MHSNAM, and E-MHSRWM.

BNSF states that they will provide mechanical and operating forces with the list of trains allowed to operate past the 1,500-mile threshold. Additionally, BNSF would maintain records of defective conditions discovered during inspections, as currently required, including any defective equipment set out en route.

Interested parties are invited to participate in these proceedings by submitting written data or comments. FRA does not anticipate scheduling a public hearing in connection with these proceedings since the facts do not appear to warrant a hearing. If any interested party desires an opportunity for oral comment, they should notify FRA in writing before the end of the comment period and specify the basis for their request.

All communication concerning these proceedings should identify the appropriate docket number (e.g., Waiver Petition Docket Number FRA-2006-24812) and must be submitted in triplicate to the Docket Clerk, DOT Central Docket Management Facility, Room Pl-401, Washington, DC. 20590-0001. All communications concerning this petition should identify the appropriate docket number (FRA-2006-26029) and may be submitted by one of the following methods:

• Web site: http://dms.dot.gov. Follow the instructions for submitting comments on the DOT electronic site;

• Fax: 202-493-2251;

• Mail: Docket Management Facility, U.S. Department of Transportation, 400 Seventh Street, SW., Nassif Building, Room PL-401, Washington, DC 20590-0001; or

• Hand Delivery: Room PL-401 on the plaza level of the Nassif Building, 400 Seventh Street, SW., Washington, DC, between 9 a.m. and 5 p.m., Monday through Friday, except Federal holidays.

Communication received within 30 days of the date of this notice will be considered by FRA prior to final action being taken. Comments received after that date will be considered to the extent practicable. All written communications concerning these proceedings are available for examination during regular business hours (9 a.m.—5 p.m.) at the above facility. All documents in the public docket are also available for inspection and copying on the Internet at the docket facility's Web site at http://dms.dot.gov.

Anyone is able to search the electronic form of all comments received into any of our dockets by the name of the individual submitting the comment (or signing the comment on behalf of an association, business, labor union, etc.). You may review the DOT's complete Privacy Act Statement in the Federal Register published on April 11, 2000 (Volume 65, Number 70; Pages 19477-78). The Statement may also be found at http://dms.dot.gov.

Issued in Washington, DC, on December 19, 2006.
Grady C. Cothen, Jr.,
Deputy Associate Administrator, for Safety Standards and Program Development.

[FR Doc. E6-21955 Filed 12-21-06; 8:45 am]

BILLING CODE 4910-06-P